DEPARTMENT OF JUSTICE

Notice of Lodging of Consent Decree Under the Resource Conservation and Recovery Act

Notice is hereby given that on June 30, 2008, a proposed consent decree in United States v. John B. Knight, Jr.; Robert D. Brown; National Petroleum Marketing, Inc.; Sunwest Express, Inc.; and Navajo Trails, Inc., Civil No. CIV-04-0626-PHX-JWS, was lodged with the United States District Court for the District of Arizona.

This Consent Decree resolves claims asserted by the United States in a complaint filed on March 30, 2004, against the settling defendants for civil penalties under the Resource Conservation and Recovery Act, 42 U.S.C. 6991-6992, for failure to conduct corrosion tests every three years; failure to report a suspected release within twenty-four hours; failure to investigate suspected releases within seven days; failure to monitor tanks every thirty days; failure to utilize a valid release detection method; failure to provide adequate release detection for piping; failure to maintain financial responsibility; and failure to respond to information request letters.

The proposed Consent Decree provides for the payment to the United States of $55,000 in civil penalties.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. John B. Knight, Jr.; Robert D. Brown; National Petroleum Marketing, Inc.; Sunwest Express, Inc.; and Navajo Trails, Inc., D.J. Ref. 90-7-1-08112.

The Consent Decree may be examined at the Office of the United States Attorney for the District of Arizona, Two Renaissance Square, 40 N. Central Avenue, Suite 1200, Phoenix, Arizona 85004-4408, and at U.S. Environmental Protection Agency, Region 9, Office of Regional Counsel, 75 Hawthorne Street, San Francisco, California 94105. During the public comment period, the Consent Decree may also be examined on the following Department of Justice Web site: http://www.usdoj.gov/enrd/Consent_Decrees.html. A copy of the Consent Decree may also be obtained by mail from the Consent Decree Library, P.O. Box 7611, U.S. Department of Justice, Washington, D.C. 20044-7611, or by faxing or e-mailing a request to Tonia Fleetwood (tonia.fleetwood@usdoj.gov), fax number (202) 514-0097, phone confirmation number (202) 514-1547. In requesting a copy from the Consent Decree Library, please enclose a check in the amount of $4.75 (25 cents per page reproduction cost) payable to the U.S. Treasury, or if by e-mail or fax, forward a check in that amount to the Consent Decree Library at the stated address.

Henry Friedman,
Assistant Chief, Environmental Enforcement Section, Environment and Natural Resources Division.

[FR Doc. E8-15220 Filed 7-3-08; 8:45 am]

BILLING CODE 4410-15-P